DEPARTMENT OF TRANSPORTATION

Office of the Secretary; Notice of Applications for Certificates of Public Convenience and Necessity and Foreign Air Carrier Permits Filed Under Subpart B (Formerly Subpart Q) During the Week Ending February 2, 2007

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-27184.

Date Filed: February 1, 2007.

Due Date for Answers, Conforming Applications, or Motion to Modify Scope:February 22, 2007.

Description: Application of Bellview Airlines Ltd., requesting a foreign air carrier permit to engage in scheduled foreign air transport of persons, property, and mail from a point or points in Nigeria via intermediate points, to a point or points in the United States and beyond, as well as other charter authority.

Renee V. Wright,
Program Manager, Docket Operations, Federal Register Liaison.

[FR Doc. E7-2337 Filed 2-9-07; 8:45 am]

BILLING CODE 4910-9X-P